DEPARTMENT OF THE INTERIOR

Bureau of Land Management

[LLNVW03500 12320000.MA0000 19X WBS CODE: LVRDNV190000.241A.21XL5017AP MO# 4500154486]

Temporary Restrictions of Specific Uses on Public Lands Within the Black Rock Desert—High Rock Canyon Emigrant Trails National Conservation Area (Black Rock Desert Playa) Humboldt County, Pershing County, and Washoe County, NV

AGENCY: Bureau of Land Management, Interior.

ACTION: Notice of temporary restrictions.

SUMMARY: Under the authority of the Federal Land Policy and Management Act of 1976, as amended (FLPMA), the Bureau of Land Management (BLM) Winnemucca District, Black Rock Field Office, will implement temporary restrictions to protect public safety and resources on public lands both within and adjacent to the Black Rock Desert playa.

DATES: The temporary restrictions will apply from August 18, 2021, to 11:59 p.m. on October 31, 2021.

FOR FURTHER INFORMATION CONTACT: Mark E. Hall, Field Manager, BLM Black Rock Field Office, Winnemucca District, 5100 East Winnemucca Boulevard, Winnemucca, NV 89445-2921; telephone: 775-623-1500; email: mehall@blm.gov. Persons who use a telecommunications device for the deaf (TDD) may call the Federal Relay Service (FRS) at 1-800-877-8339 to contact the above individual during normal business hours. The FRS is available 24 hours a day, 7 days a week, to leave a message or question with the above individual. You will receive a reply during normal hours.

SUPPLEMENTARY INFORMATION: The temporary restrictions affect public lands both within and adjacent to the Black Rock Desert playa within the Black Rock Desert-High Rock Canyon Emigrant Trails National Conservation Area in Humboldt, Pershing, and Washoe Counties, Nevada. The temporary restrictions on public lands will be conducted to limit impacts to the natural resource and provide for public health and safety.

The restricted area of the affected public lands falls within the following described area:

Mount Diablo Meridian, Nevada

T. 32 N., R. 23 E.,

Secs. 1 thru 3, secs. 10 thru 14, and secs. 23 thru 26.

T. 33 N., R. 23 E.,

Secs. 24 thru 26 and secs. 34 thru 36.

T. 32 N., R. 24 E.,

Secs. 5 thru 7 and sec. 18.

T. 33 N., R. 24 E.,

Secs. 1 thru 5, secs. 7 thru 23, and secs. 27 thru 33.

T. 33½ N., R. 24 E.,

Secs. 25 thru 29 and secs. 33 thru 36.

T. 34 N., R. 24 E.,

Secs. 1 and 2, secs. 10 thru 15, secs. 21 thru 28, secs. 32 thru 36.

T. 35 N., R. 24 E.,

Sec. 13, secs. 23 thru 26, and secs. 35 and 36.

T. 33 N., R. 25 E.,

Secs. 1 thru 4, secs. 9 and 10, and sec. 16.

T. 34 N., R. 25 E.

T. 35 N., R. 25 E.

T. 35½ N., R. 25 E.,

Secs. 25 thru 27 and secs. 33 thru 36.

T. 36 N., R. 25 E.,

Sec. 13, secs. 21 thru 29, and secs. 32 thru 36.

T. 34 N., R. 26 E.,

Secs. 1 thru 11, secs. 15 thru 22, and secs. 28 thru 33.

T. 35 N., R. 26 E.

T. 35½ N., R. 26 E.

T. 36 N., R. 26 E.,

Sec. 7, secs. 17 thru 20, and secs. 28 thru 33.

T. 35 N., R. 27 E.,

Secs. 6, 7, 18, 19, 30, and 31.

The restriction area, (129,173 acres) includes the entire Black Rock Desert playa. The temporary restrictions will apply from August 18, 2021 until 11:59 p.m. on October 31, 2021.

The temporary restrictions are necessary because the BLM anticipates increased visitation and use of the Black Rock Desert playa. The proposed Burning Man event was cancelled by the permit applicant for the second year in a row. The Burning Man event historically has attracted up to 80,000 participants to what has been traditionally called Black Rock City, Nevada. As a result, many members of the public who had planned on attending that event have instead expressed an interest in informal gatherings on the playa throughout the summer of 2021. The BLM has received many inquiries and has reviewed available information online and has determined that use of the playa is likely to be high. These temporary restrictions are necessary to provide a safe environment for members of the public visiting the Black Rock Desert playa as well as special recreation permittees. The temporary restrictions will also protect public land resources by addressing likely impacts associated with increased use of the Black Rock Desert playa. A temporary restriction order, under the authority of 43 CFR 8364.1, is appropriate because the restrictions listed below are specifically tailored to the time frame that is necessary to provide a safe environment for the public and to protect public land resources while avoiding imposing restrictions that may not be necessary in the area during the remainder of the year.

The BLM will post copies of these temporary restrictions and an associated map in kiosks at access points to the Black Rock Desert playa as well as at the Gerlach Post Office, Bruno's Restaurant, Empire Store, Friends of Black Rock-High Rock offices, the BLM-Nevada Black Rock Station near Gerlach, and the BLM-California Applegate Field Office. The BLM will also make the materials available on the BLM external web page at: http://www.blm.gov.

In addition to the Nevada Collateral Forfeiture and Bail Schedule as authorized by the United States District Court, District of Nevada and under the authority of Section 303(a) of FLPMA, 43 CFR 8360.0-7 and 43 CFR 8364.1, the BLM will apply and enforce the following temporary restrictions within the Black Rock Desert playa from August 18, 2021, through October 31, 2021:

Temporary Restrictions

1. Commercial activities, as defined at 43 CFR 2932.5, are prohibited.

2. Camping use is limited to the flat and un-vegetated playa surface.

3. Building of structures is prohibited. A structure is defined as construction, placement or organization of parts, pieces, or objects that are not intended for sleeping, cooking, or protection from the elements, such as shade tents.

4. Ignition of fires other than a campfire is prohibited, unless specified by a fire prevention order. Campfires may only be burned in containers that are sturdily elevated six (6) inches above the playa surface and in a manner that does not pose a risk of fire debris falling onto the playa surface. Plastic and nonflammable materials may not be burned in campfires. Burning of construction materials, pallets, or wood with screws or nails is prohibited.

5. Possessing, discharging, using or allowing the use of fireworks, pyrotechnic or incendiary devices is prohibited.

6. Possessing, shooting, or causing to burn; explosives or explosive material, to include binary explosive targets is prohibited.

7. The discharge and dumping of grey water or black water onto the playa/ground surface is prohibited. Grey water is defined as water that has been used for cooking, washing, dishwashing, or bathing and/or contains soap, detergent, or food scraps/residue, regardless of whether such products are biodegradable or have been filtered or disinfected. Black water is defined as wastewater containing feces, urine and/or flush water.

8. Depositing human waste (liquid and/or solid) on the playa/ground surface is prohibited.

9. Dumping or discharge of vehicle oil, petroleum products or other hazardous household, commercial or industrial refuse or waste onto the playa surface is prohibited. This applies to all recreational vehicles, trailers, motorhomes, port-a-potties, generators and other camp infrastructure.

10. Storage of over 20 gallons of fuel must include secondary containment capable of holding and preventing leaks and spills on the playa surface. Storage of less than 20 gallons must include a spill pad or other measures to prevent leaks and spills. Secondary containment is defined as capturing the entire contents of the largest tank in the containment area in the event of a leak or spill.

11. Unauthorized dumping or discharge of fresh water onto the playa surface in a manner that creates a hazard or nuisance is prohibited.

12. Aircraft landing, taking off, touch-and-go landings, and taxiing is prohibited. Aircraft is defined in Title 18, U.S.C., section 31(a)(1) and includes lighter-than-aircraft and ultra-light craft. However, in an emergency, fixed wing aircraft and helicopters that are providing emergency medical services are not prohibited.

13. Possession of an open container of an alcoholic beverage by the driver or operator of any motorized vehicle, whether or not the vehicle is in motion, is prohibited. An open container is defined as any bottle, can, or other container which contains an alcoholic beverage, if that container does not have a closed top or lid for which the seal has not been broken. If the container has been opened one or more times, and the lid or top has been replaced, that container is an open container. The possession of an open container includes any open container that is physically possessed by the driver or operator or is adjacent to and reachable by that driver or operator. This includes, but is not limited, to containers in a cup holder or rack adjacent to the driver or operator, containers on a vehicle floor next to the driver or operator, and containers on a seat or console area next to a driver or operator.

14. All motor vehicles must comply with the following requirements:

A. The operator of a motor vehicle must possess a valid driver's license.

B. Motor vehicles and trailers must possess evidence of valid registration.

C. It is prohibited to ride on the top of or outside of the passenger compartment (the area intended for sitting inside a vehicle).

D. Motor vehicles, other than a motorcycle or golf cart, must be equipped with at least two working headlamps and at least two functioning red tail lamps. Motorcycles or golf carts require only one working headlamp and one working red taillight during night hours, from a half-hour after sunset to a half-hour before sunrise. Trailers pulled by motor vehicles must be equipped with at least two functioning tail lamps and at least two functioning brake lights.

E. Motor vehicles, including motorcycles or golf carts, must display a red, amber, or yellow brake light visible to the rear in normal sunlight upon application of the brake.

F. Except for the flat and un-vegetated playa surface, all vehicle use is limited to designated vehicle routes (roads and ways).

G. Motor vehicle is defined as any device designed for and capable of travel over land and which is self-propelled by a motor.

H. Trailer means every vehicle without motor power designed to carry property or passengers wholly on its own structure and to be drawn by a motor vehicle, this includes camp trailers, pop-up trailers, 4′ x 7′ or larger flatbed trailers, enclosed cargo trailers, or RV style trailers.

15. The possession and or use of lasers is prohibited. A laser means any laser beam device or demonstration laser product that emits a single point of light amplified by the stimulated emission of radiation that is visible to the human eye.

16. The use or discharge of flame effects is prohibited. Flame effect is defined as the combustion of solids, liquids, or gases to produce thermal, physical, visual, or audible phenomena. This includes all flames that are automated, switched, pressurized or having any other action than simply being lit on fire; as well as projects using propane or other liquid or gaseous fuels.

Enforcement: Any person who violates any of these temporary restrictions may be tried before a United States Magistrate and fined in accordance with 18 U.S.C. 3571, imprisoned no more than 12 months under 43 U.S.C. 1733(a) and 43 CFR 8360.0-7, or both. In accordance with 43 CFR 8365.1-7, State or local officials may also impose penalties for violations of Nevada law.

Authority: 43 CFR 8364.1.

Mark Hall,
Field Manager, Black Rock Field Office, Winnemucca District.

[FR Doc. 2021-17736 Filed 8-17-21; 8:45 am]

BILLING CODE 4310-HC-P